DEPARTMENT OF STATE

[Public Notice 8629]

Bureau of Economic and Business Affairs; Removal of Sanctions on Person on Whom Sanctions Have Been Imposed Under the Iran Sanctions Act of 1996, as Amended

AGENCY: Department of State.

ACTION: Notice.

SUMMARY: The Secretary of State has determined that Associated Shipbroking (a.k.a. SAM) is no longer engaging in sanctionable activity described in section 5(a) of the Iran Sanctions Act of 1996 (Pub. L. 104-172) (50 U.S.C. 1701 note) (“ISA”), as amended, and that this person has provided reliable assurances that it will not knowingly engage in such activities in the future. Therefore, certain sanctions that were imposed on Associated Shipbroking on May 24, 2011 are hereby lifted.

DATES: Effective Date: The sanctions on Associated Shipbroking are lifted effective February 7, 2014.

FOR FURTHER INFORMATION CONTACT: On general issues: Office of Sanctions Policy and Implementation, Department of State, Telephone: (202) 647-7489.

SUPPLEMENTARY INFORMATION: On May 24, 2011, the Secretary of State made a determination to impose certain sanctions on, inter alia, Associated Shipbroking (a.k.a. SAM) under the Iran Sanctions Act of 1996, as amended (Pub. L. 104-172) (50 U.S.C. 1701 note). See 76 FR 56866 (September 24, 2011).

At that time, pursuant to section 5(a) of ISA and the authority delegated to the Secretary of State in the Presidential Memorandum of September 23, 2010, 75 FR 67025 (the “Delegation Memorandum”), the Secretary determined to impose on Associated Shipbroking and any person in which Associated Shipbroking has an interest of fifty percent or more the following sanctions described in section 6 of ISA:

1. Foreign Exchange. Any transactions in foreign exchange that are subject to the jurisdiction of the United States in which Associated Shipbroking has any interest shall be prohibited.

2. Banking transactions. Any transfers of credit or payments between financial institutions or by, through, or to any financial institutions, to the extent that such transfers or payments are subject to the jurisdiction of the United States and involve any interest of Associated Shipbroking, shall be prohibited.

3. Property transactions. It shall be prohibited to:

a. Acquire, hold, withhold, use, transfer, withdraw, transport, import, or export any property that is subject to the jurisdiction of the United States and with respect to which Associated Shipbroking has any interest;

b. Deal in or exercise any right, power, or privilege with respect to such property.

c. Conduct any transactions involving such property.

Pursuant to section 9(b)(2) of ISA and the authority delegated to the Secretary of State in the Delegation Memorandum, the Secretary now has determined and certified to Congress that Associated Shipbroking is no longer engaging in sanctionable activity described in section 5(a) of ISA, and that this person has provided reliable assurances that they will not knowingly engage in such activities in the future. The Secretary, therefore, has determined to lift the above-referenced sanctions imposed on Associated Shipbroking.

The sanctions described above with respect to Associated Shipbroking are no longer in effect. Pursuant to the authority delegated to the Secretary of State in the Delegation Memorandum, relevant agencies and instrumentalities of the United States Government shall take all appropriate measures within their authority to carry out the provisions of this notice.

The following constitutes a current, as of this date, list of persons on whom sanctions are imposed under ISA. The particular sanctions imposed on an individual person are identified in the relevant Federal Register Notice.

—Belarusneft (see Public Notice 7408, 76 FR 18821, April 5, 2011)

—BimehMarkazi-Central Insurance of Iran (See Public Notice 8268, 78 FR 21183, April 9, 2013)

—Cambis, Dimitris (See Public Notice 8268, 78 FR 21183, April 9, 2013)

—FAL Oil Company Limited (see Public Notice 7776, 77 FR 4389, January 27, 2012)

—Ferland Company Limited (See Public Notice 8352, 78 FR 35351, June 12, 2013)

—Impire Shipping (See Public Notice 8268, 78 FR 21183, April 9, 2013)

—Jam Petrochemical Company (See Public Notice 8352 78 FR 35351, June 12, 2013)

—Kish Protection and Indemnity (a.k.a. Kish P&I) (See Public Notice 8268, 78 FR 21183, April 9, 2013)

—Kuo Oil (S) Pte. Ltd. (see Public Notice 7776, 77 FR 4389, January 27, 2012)

—NaftiranIntertrade Company (see Public Notice 7197, 75 FR 62916, October 13, 2010)

—Niksima Food and Beverage JLT (See Public Notice 8352, 78 FR 35351, June 12, 2013)

—Petrochemical Commercial Company International (a.k.a. PCCI) (see Public Notice 7585, 76 FR 56866, September 14, 2011)

—Petróleos de Venezuela S.A. (a.k.a. PDVSA) (see Public Notice 7585, 76 FR 56866, September 14, 2011)

—Royal Oyster Group (see Public Notice 7585, 76 FR 56866, September 14, 2011)

—Speedy Ship (a.k.a. SPD) (see Public Notice 7585, 76 FR 56866, September 14, 2011)

—Sytrol (see Public Notice 8040, 77 FR 59034, September 25, 2012)

—Zhuhai Zhenrong Company (see Public Notice 7776, 77 FR 4389, January 27, 2012)

Dated: January 7, 2014.
William E. Craft,
Acting Assistant Secretary, for Economic and Business Affairs.

[FR Doc. 2014-03233 Filed 2-12-14; 8:45 am]

BILLING CODE 4710-07-P